DEPARTMENT OF EDUCATION

[Docket No. ED-2018-ICCD-0107]

Agency Information Collection Activities; Submission to the Office of Management and Budget for Review and Approval; Comment Request; The Department of Education Accrediting Agency, Foreign Medical and Foreign Veterinarian Program Comparability Database Approval

AGENCY: Office of Postsecondary Education (OPE), Department of Education (ED).

ACTION: Notice.

SUMMARY: In accordance with the Paperwork Reduction Act of 1995, ED is proposing a revision of an existing information collection.

DATES: Interested persons are invited to submit comments on or before January 28, 2019.

ADDRESSES: To access and review all the documents related to the information collection listed in this notice, please use http://www.regulations.gov by searching the Docket ID number ED-2018-ICCD-0107. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Herman Bounds, 202-453-6128.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The Department of Education Accrediting Agency, Foreign Medical and Foreign Veterinarian Program Comparability Database Approval.

OMB Control Number: 1840-0788.

Type of Review: A revision of an existing information collection.

Respondents/Affected Public: Private Sector.

Total Estimated Number of Annual Responses: 94.

Total Estimated Number of Annual Burden Hours: 3,988.

Abstract: The United States Secretary of Education (Secretary) is required by law to publish a list of nationally-recognized accrediting agencies that have been determined to be reliable authorities regarding the quality of education or training offered by the institutions or programs they accredit. In determining whether a specific agency should be recognized, the Secretary evaluates the submission for compliance with the Criteria for Recognition contained in regulations. The collection of information is necessary for the Secretary to evaluate and monitor the continued compliance with the criteria during any period of recognition granted. This collection is submitted due to the approaching end of the 3 year approval period. There is a change in burden hours for the following reasons. The number of accrediting agencies/organizations submitting documentation increased. Two additional accrediting agencies submitted initial petitions for recognition and supporting documentation, one additional foreign veterinary accrediting agency and two additional accrediting organizations communicated their intent to submit an initial application. Department staff consulted with seven accrediting agencies and organizations and determined that a new evaluation of burden hours was necessary.

Dated: December 20, 2018.
Kate Mullan,
Acting Director, Information Collection Clearance Division, Office of the Chief Privacy Officer, Office of Management.

[FR Doc. 2018-28028 Filed 12-26-18; 8:45 am]

BILLING CODE 4000-01-P